DEPARTMENT OF COMMERCE

Census Bureau

Census Coverage Measurement Person Interview and Person Interview Reinterview Operations

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before August 22, 2005.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Magdalena Ramos, U.S. Census Bureau, Building 2, Room 2126, Washington, DC 20233-9200, 301-763-4295.

SUPPLEMENTARY INFORMATION:

I. Abstract

In preparation for the 2010 Census, the U.S. Census Bureau will conduct a Census Coverage Measurement (CCM) test as part of the 2006 Census Test. The purpose of the 2006 CCM test is not to evaluate the coverage of the 2006 Census Test per se, but rather to test ways of improving previous coverage measurement methods. In particular, the focus of the 2006 CCM test is to test improved matching operations and data collection efforts designed to obtain more accurate information about where a person should have been enumerated according to our residence rules.

This focus is motivated by: (1) Problems encountered with coverage measurement in 2000 in determining a person's residence (relative to our residence rules), (2) the significant number of duplicate enumerations in Census 2000, and (3) expanded goals for coverage measurement in 2010. The latter refers to our objective of producing-for the first time—separate estimates of coverage error components-omissions (missed persons) and erroneous inclusions (including duplicates). The data collection and matching methodologies for previous coverage measurement programs were designed only to measure net coverage error, which reflects the difference between omissions and erroneous inclusions (see Definition of Terms). In order to produce separate estimates of these coverage error components, we need to develop and test changes to our data collection and matching methods. In particular, the CCM efforts will focus on ways to obtain better information about addresses where people should have, and could have, been enumerated during the census.

An additional objective for the 2006 Census Test is to determine if we can conduct coverage measurement interviews before all census data collection is complete, and do so without contaminating the census and adversely affecting coverage measurement. This has a minuscule effect on the census, but a more serious effect on coverage measurement. There are several operational and data quality advantages of conducting coverage measurement interviews as close to census day as possible, but we don't want to do this if it will seriously affect measurement of coverage error.

II. Method of Collection

The 2006 CCM operations will use a sample of approximately 5,000 housing units in selected census tracts in Travis County, Texas; and 500 housing units on the Cheyenne River Reservation in South Dakota. The first operation of the CCM will be the Person Interview (PI) operation. After data collected from the CCM PI is matched to data collected by the 2006 Census Test, certain cases will be sent for another CCM interview called the Person Followup Interview. A separate Federal Register Notice will be issued later for that operation.

The CCM PI operation will collect the information listed below only for persons in housing units. We are not studying coverage measurement for other types of living quarters (for example, group quarters) in the 2006 Census Test.

1. Census Day (April 1, 2006) residence (relative to our residence rules).

2. Interview Day residence (i.e., as of the day of the CCM interview).

3. Census Day address information for people who moved to the sample address since Census Day, and other addresses where a person might have been counted on Census Day.

4. Other information to help us determine where a person should have been counted as of Census Day (relative to our residence rules). For example, enumerators will probe for persons who might have been left off the household roster; ask additional questions about persons who moved from another address on Census Day to the sample address; collect additional information for persons with multiple addresses; and collect information on the addresses of other potential residences for household members.

5. Demographic information for each person in the household on Interview Day or Census Day, including name, date of birth, sex, race, ethnicity, and relationship.

As part of the CCM, we also will conduct a quality control operation—PI Reinterview. For this operation a sample of the CCM PI cases will be selected for a reinterview. This sample consists of approximately 500 housing units in Travis County, Texas; and 50 housing units on the Cheyenne River Reservation in South Dakota. The purpose of the reinterview is to determine if the source of the CCM PI data (e.g., a household member; a specific proxy respondent) can be confirmed. If not, then all cases completed by the original enumerator will be considered invalid, and reassigned for rework by a different enumerator.

The CCM PI and PI Reinterview operations will occur from July 3, 2006 to October 6, 2006. Data collected as a result of these interviews will be processed at our headquarters in Washington, DC.

Definition of Terms

Alternate Addresses—These are respondent provided addresses obtained during the CCM PI for other places where household members may have been counted on Census Day.

Components of Coverage Error—The two components of census coverage error are census omissions (missed persons) and erroneous inclusions. The latter includes duplicates, and persons who should not have been enumerated at a particular address (per our residence rules).

Net Coverage Error—Reflects the difference between omissions and erroneous inclusions. A positive net error indicates an undercount, while a negative net error indicates an overcount.

For more information about Census 2000 operations and coverage measurement efforts, please visit the following page of the Census Bureau's Web site: http://www.census.gov/dmd/www/refroom.html.

III. Data

OMB Number: 0607-xxxx.

Form Number: None.

Type of Review: Regular.

Affected Public: Individuals or Households.

Estimated Number of Respondents: 6,050.

Estimated Times Per Response: 20 Minutes.

Estimated Total Annual Burden Hours: 2,017.

Estimated Total Annual Cost to the Public: There is no cost to the respondents except their time to respond.

Respondent Obligation: Mandatory.

Legal Authority: Title 13 of the United States Code, Sections 141 and 193.

IV. Request for Comments

Comments are invited on: (a) Whether the proposed collection of information is necessary for the proper performance of the functions of the agency, including whether the information shall have practical utility; (b) the accuracy of the agency's estimate of the burden (including hours and cost) of the proposed collection; (c) ways to enhance the quality, utility, and clarity of the information to be collected; and (d) ways to minimize the burden of the collection of information on respondents, including through the use of automated collection techniques or other forms of information technology.

Comments submitted in response to this notice will be summarized and/or included in the request for OMB approval of the information collection; they also will become a matter of public record.

Dated: June 16, 2005.
Madeleine Clayton,
Management Analyst, Office of the Chief Information Officer.

[FR Doc. 05-12260 Filed 6-21-05; 8:45 am]

BILLING CODE 3510-07-P